DEPARTMENT OF ENERGY

Letter From Secretary of Energy Accepting Defense Nuclear Facilities Safety Board (Board) Recommendation 2008-1

AGENCY: Department of Energy.

ACTION: Notice.

SUMMARY: The Department of Energy (DOE) is making available the Secretary's letter to the Board accepting the Board's recommendation 2008-1 regarding fire protection at defense nuclear facilities.

ADDRESSES: U.S. Department of Energy, HS-1.1, 1000 Independence Ave., SW., Washington, DC 20585.

SUPPLEMENTARY INFORMATION: DOE is making this letter available for public information and solicits comments from the public. Comments may be sent to the address above. The text of the document is below. It may also be viewed at: http://www.hss.energy.gov/deprep/default.asp.

Issued in Washington, DC on March 21, 2008.
Robert J. McMorland,
Office of the Departmental Representative to the Defense Nuclear Facilities Safety Board.

March 19, 2008

The Honorable A. J. Eggenberger

Chairman

Defense Nuclear Facilities Safety Board

625 Indiana Avenue, NW., Suite 700

Washington, DC 20004-2901

Dear Mr. Chairman:

The Department of Energy (DOE) acknowledges receipt of the Defense Nuclear Facilities Safety Board (Board) Recommendation 2008-1, Safety Classification of Fire Protection Systems, issued on January 29, 2008.

As identified in your letter, the Department has general design requirements for safety systems. We agree with the Board that safety systems for each project can be evaluated individually, but that it would be beneficial to establish guidance on translating requirements into specific fire protection design and operating features for more frequently used fire protection systems. As acknowledged, it may not always be necessary to meet criteria for redundancy, nuclear-grade quality assurance, or seismic qualification. As suggested in Recommendation 2008-1, our implementation will leave room for engineering judgment and innovative approaches in such cases. As discussed in this letter, we accept the Board's recommendation and will respond by developing an Implementation Plan that:

• Identifies additional design and operational criteria for newly classified (but not existing) safety-class and safety-significant fire protection systems where warranted;

• Revises DOE Standard-1066-99, Fire Protection Design Criteria, to provide additional guidance for design and operation of selected fire protection systems designated as safety-class or safety-significant by the relevant Documented Safety Analysis. This guidance will include the appropriate level of detail that considers the uniqueness of fire scenarios;

• Identifies Nuclear Regulatory Commission and commercial design codes and standards that could be applied to safety-class and safety significant fire protection systems; and

• As necessary, modifies DOE Guide (G) 420.1-1, Nonreactor Nuclear Safety Design Criteria and Explosive Safety Criteria Guide for use with DOE 0 420. 1, Facility Safety, and DOE G 420.1-3, Implementation Guide for DOE Fire Protection and Emergency Services Programs for Use with DOE O 420. I B, Facility Safety, to ensure compatibility with the new guidance for fire protection systems.

We will interact with the Board and Board staff as we develop our Implementation Plan. I have assigned Mr. Andrew C. Lawrence, Director, Office of Nuclear Safety and Environment, Office of Health, Safety and Security, to be the Department's responsible manager for developing the Implementation Plan. He can be reached at (202) 586-5680.

Sincerely,

Samuel W. Bodman

[FR Doc. E8-6240 Filed 3-26-08; 8:45 am]

BILLING CODE 6450-01-P